DEPARTMENT OF TRANSPORTATION

Surface Transportation Board

[Docket No. FD 35727]

Union Pacific Railroad Company—Trackage Rights Exemption—Illinois Central Railroad Company

Illinois Central Railroad Company (IC), pursuant to a written agreement dated December 18, 2012, has agreed to grant overhead trackage rights to Union Pacific Railroad Company (UP) over IC's Chicago Subdivision between milepost 21.0 at or near Markham, Ill., and milepost 29.0 at or near Matteson, Ill., a distance of approximately 8.0 miles.¹

¹ A redacted trackage rights agreement between IC and UP was filed with the notice of exemption. An unredacted version was filed under seal along with a motion for protective order, which will be addressed in a separate decision.

The transaction is scheduled to be consummated on May 5, 2013, the effective date of the exemption (30 days after the exemption was filed).

According to UP, through predecessor railroads, it currently maintains trackage rights over approximately 60 miles of IC's rail line between milepost A0-36.7 near Joliet, Ill., and milepost 21.0 near Markham, Ill.² The purpose of the transaction is to permit UP to connect to its existing trackage rights over the Wisconsin Central Ltd. (formerly Elgin, Joliet and Eastern Railway Company) line ³ near Matteson, Ill., which UP states would facilitate efficient train and rail operations throughout the Chicago area.

² See Chi., Mo. & W. Ry.—Exemption Acquis. and Operation—Ill. Cent. Gulf R.R., FD 30911 (ICC served Oct. 23, 1986, as supplemented May 8, 1987); and Rio Grande Indus., Inc.—Purchase and Trackage Rights—Chi., Mo. & W. Ry. Line between St. Louis, Mo. and Chi., Ill., 5 I.C.C.2d 952 (1989).

³ See Union Pac. R.R.—Trackage Rights Exemption—Elgin, Joliet & E. Ry., FD 35728 (filed Apr. 5, 2013) for a description of these trackage rights.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by April 26, 2013 (at least 7 days before the exemption becomes effective).

An original and 10 copies of all pleadings, referring to Docket No. FD 35727, must be filed with the Surface Transportation Board, 395 E Street SW., Washington, DC 20423-0001. In addition, a copy of each pleading must be served on Jeremy Berman, Union Pacific Railroad Company, 1400 Douglas Street, STOP 1580, Omaha, NE 68179.

Board decisions and notices are available on our Web site at “www.stb.dot.gov.”

Decided: April 16, 2013.
By the Board, Rachel D. Campbell, Director, Office of Proceedings.
Raina S. White,
Clearance Clerk.

[FR Doc. 2013-09242 Filed 4-18-13; 8:45 am]

BILLING CODE 4915-01-P